DEPARTMENT OF TRANSPORTATION

Pipeline and Hazardous Materials Safety Administration

[Docket: PHMSA-98-4957]

Request for Public Comments and Office of Management and Budget Approval of an Existing Information Collection (2137-0598)

AGENCY: Pipeline and Hazardous Materials Safety Administration (PHMSA), DOT.

ACTION: Notice and request for comments.

SUMMARY: In compliance with the Paperwork Reduction Act of 1995 (PRA), this notice requests public participation in the Office of Management and Budget (OMB) approval process for the renewal of existing leak detection information collection. PHMSA invites the public to submit comments over the next 60 days on whether the existing information collection is necessary for the proper performance of the functions of the Department of Transportation.

DATES: Submit comments on or before July 30, 2007.

ADDRESSES: Reference Docket No. PHMSA-98-4957 and submit in one of the following ways:

• DOT Web Site: http://dms.dot.gov. To submit comments on the DOT electronic docket site, click “Comment/Submissions,” click “Continue,” fill in the requested information, click “Continue”, enter your comment, then click “Submit.”

• Fax: 1-202-493-2251.

• Mail: Docket Management System: U.S. Department of Transportation, 400 Seventh Street, SW., Nassif Building, Room PL-401, Washington, DC 20590-0001. Effective May 21, 2007, the U.S. Postal Service will deliver all mail to the new DOT headquarters at 1200 New Jersey Avenue, SE. (East Building), Washington, DC 20590.

• Hand Delivery: DOT Docket Management System; Room PL-401 on the plaza level of the Nassif Building, 400 Seventh Street, SW, Washington, DC between 9 a.m. and 5 p.m., Monday through Friday, except Federal holidays. On May 25, 2007, at the close of business, the DOT Dockets office will close its operations and re-open on May 30, 2007.

• E-Gov Web Site: http://www.regulations.gov. This site allows the public to enter comments on any Federal Register notice issued by any agency.

Instructions: Identify the docket number, PHMSA-98-4957, at the beginning of your comments. Mail your comments and send two copies. To receive confirmation that PHMSA received your comments, include a self-addressed stamped postcard. Internet users may submit comments at http://www.regulations.gov, and may access all comments received by DOT at http://dms.dot.gov by performing a simple search for the docket number.

Note: PHMSA posts all comments without changes or edits to http://dms.dot.gov, including any personal information provided.

Privacy Act

Anyone can search the electronic form of all comments received in response to any of our dockets by the name of the individual submitting the comment (or signing the comment, if submitted on behalf of an association, business, labor union, etc.). DOT's complete Privacy Act Statement was published in the Federal Register on April 11, 2000 (65 FR 19477), and is on the Web at http://dms.dot.gov.

FOR FURTHER INFORMATION CONTACT: Joy Kadnar at (202) 366-0568, or by e-mail at joy.kadnar@dot.gov.

SUPPLEMENTARY INFORMATION: Sections 195.134 and 195.444 of the Federal pipeline safety regulations require operators of hazardous liquid pipeline facilities installing new computational pipeline monitoring (CPM) leak detection systems or replacing components of existing CPM systems to comply with section 4.2 of American Petroleum Institute (API) recommended practice API 1130, “Computational Pipeline Monitoring for Liquid Pipelines.” API 1130 section 4.2 provides information collection and maintenance guidance on many factors such as measurement capabilities, communications reliability, pipeline operating condition, and product type. PHMSA reviews the information during pipeline inspection. The information supports the pipeline inspection and improves pipeline safety by providing early detection of a pipeline leak. A copy of API 1130 is available in the docket.

Pursuant to 44 U.S.C. 3506(c)(2)(A) of the PRA, PHMSA invites comments on whether the renewal of the existing leak detection information collection is necessary for the proper performance of the functions of the Department of Transportation. As used in this notice, the term “information collection” includes all work related to the preparing and disseminating information in accordance with the recordkeeping requirements. The comments may include (1) whether the information will have practical utility; (2) the accuracy of the Department's estimate of the burden of the proposed information collection; (3) ways to enhance the quality, utility, and clarity of the information collection; and (4) ways to minimize the burden of the information collection on respondents, including the use of automated collection techniques or other forms of information technology.

Type of Information Collection Request: Renewal of Existing Collection.

Title of Information Collection: Incorporation by Reference of Industry Standard on Leak Detection.

Respondents: 50.

Estimated Total Annual Burden on Respondents: 100.

Estimated Cost: $6,475.

Issued in Washington, DC on May 3, 2007.
Florence L. Hamn,
Director of Regulations, Office of Pipeline Safety.

[FR Doc. E7-10204 Filed 5-25-07; 8:45 am]

BILLING CODE 4910-60-P